DEPARTMENT OF TRANSPORTATION

Federal Aviation Administration

14 CFR Part 39

[Docket No. 99-NM-128-AD; Amendment 39-11772; AD 2000-11-23]

RIN 2120-AA64

Airworthiness Directives; Airbus Model A300, A310, and A300-600 Series Airplanes

AGENCY: Federal Aviation Administration, DOT.

ACTION: Final rule.

SUMMARY: This amendment adopts a new airworthiness directive (AD), applicable to all Airbus Model A300, A310, and A300-600 series airplanes, that requires an inspection to detect damage of the electrical bonding leads in specified locations of the fuel tanks, and replacement of any damaged electrical bonding leads with serviceable electrical bonding leads. For certain airplanes, this amendment also requires modifying the fuel pipe couplings in specified locations of the fuel tank. This amendment is prompted by issuance of mandatory continuing airworthiness information by a foreign civil airworthiness authority. The actions specified by this AD are intended to prevent electrical arcing/discharge in the fuel tank due to damaged electrical bonding leads or inadequate electrical bonding of the fuel pipe couplings, which could result in fuel ignition and consequent uncontained rupture of the fuel tank.

DATES: Effective July 18, 2000.

The incorporation by reference of certain publications listed in the regulations is approved by the Director of the Federal Register as of July 18, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Airbus Model A300, A310, and A300-600 series airplanes was published in the Federal Register on March 27, 2000 (65 FR 16151). That action proposed to require an inspection to detect damage of the electrical bonding leads in specified locations of the fuel tanks, and replacement of any damaged electrical bonding leads with serviceable electrical bonding leads. For certain airplanes, that action also proposed to require modifying the fuel pipe couplings in specified locations of the fuel tank.

Comments

Interested persons have been afforded an opportunity to participate in the making of this amendment. No comments were submitted in response to the proposal or the FAA's determination of the cost to the public.

Conclusion

The FAA has determined that air safety and the public interest require the adoption of the rule as proposed.

Cost Impact

The FAA estimates that 116 airplanes of U.S. registry will be affected by this AD.

It will take between 70 and 80 work hours per airplane to accomplish the required inspection, at an average labor rate of $60 per work hour. Based on these figures, the cost impact of the required inspection on U.S. operators is estimated to be between $487,200 and $556,800, or between $4,200 and $4,800 per airplane.

It will take between 77 and 103 work hours per airplane to accomplish the required modification, at an average labor rate of $60 per work hour. Required parts will cost approximately $104 per airplane. Based on these figures, the cost impact of the required modification on U.S. operators is estimated to be between $547,984 and $728,944, or between $4,724 and $6,284 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-23 Airbus Industrie: Amendment 39-11772. Docket 99-NM-128-AD.

Applicability: All Model A300, A310, and A300-600 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent electrical arcing/discharge in the fuel tank due to damaged electrical bonding leads or inadequate electrical bonding of the fuel pipe couplings, which could result in fuel ignition and consequent uncontained rupture of the fuel tank, accomplish the following:

Inspection

(a) Within 36 months after the effective date of this AD, perform a one-time inspection to detect damage (i.e., breakage, fraying, abrasion damage, looseness of the outer metal braid protection in the end crimp, looseness of the outer metal braid protection on the bonding lead inner core, corrosion, or missing leads) of the electrical bonding leads in specified locations of the fuel tanks, in accordance with the Accomplishment Instructions of Airbus Service Bulletins A300-28-0072, Revision 01, dated October 01, 1998, including Appendix 1, dated October 01, 1998, and Appendix 2, dated February 20, 1998 (for Model A300 series airplanes); A310-28-2128, Revision 01, dated October 01, 1998, including Appendix 1, dated October 01, 1998, and Appendix 2, dated February 20, 1998 (for Model A310 series airplanes); or A300-28-6057, Revision 01, dated October 01, 1998, including Appendix 1, dated October 01, 1998, and Appendix 2, dated February 20, 1998 (for Model A300-600 series airplanes); as applicable.

Note 2: Inspection of the area specified in paragraph (a) of this AD accomplished prior to the effective date of this AD in accordance with Airbus Service Bulletins A300-28-0072, A310-28-2128, or A300-28-6057; all dated February 20, 1998; as applicable; is considered acceptable for compliance with the requirements of paragraph (a) of this AD.

Replacement

(b) If any electrical bonding lead is damaged, prior to further flight, replace the bonding lead with a serviceable bonding lead in accordance with the applicable service bulletin specified in paragraph (a) of this AD.

Modification

(c) For airplanes on which Airbus Industrie Modification 11847 (for Model A310 series airplanes) or 11848 (for Model A300/A300-600 series airplanes) has not been accomplished, within 36 months after the effective date of this AD, modify the fuel pipe couplings in the specified locations of the fuel tank in accordance with the Accomplishment Instructions of Airbus Service Bulletins A300-28-0073, Revision 01, dated October 01, 1998 (for Model A300 series airplanes); A310-28-2130, Revision 01, dated October 01, 1998 (for Model A310 series airplanes); or A300-28-6058, Revision 01, dated October 01, 1998 (for Model A300-600 series airplanes); as applicable.

Note 3: Modification of the fuel pipe couplings accomplished prior to the effective date of this AD in accordance with Airbus Service Bulletins A300-28-0073, A310-28-2130, or A300-28-6058; all dated February 20, 1998; as applicable; is considered acceptable for compliance with the requirements of paragraph (c) of this AD.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with the following Airbus service bulletins, as applicable:

Service bulletin No. | Page No. | Revision level shown on page | Date shown on page
A300-28-0072, Revision 01, October 01, 1998 | 1-14 | 01 | Oct. 01, 1998.
Appendix 1
| 1-21, 23-25, 27, 29-36, 38-84, 88-95, 97-166 | Original | Feb. 20, 1998.
| 22, 26, 28, 37, 85-87, 96 | 01 | Oct. 01, 1998.
Appendix 2
| 1-54 | Original | Feb. 20, 1998.
| A310-28-2128, Revision 01, October 01, 1998 | 1-14 | 01 | Oct. 01, 1998.
Appendix 1
| 1-30, 32-83, 85-87, 89-95, 97-221, 223-226 | Original | Feb. 20, 1998.
| 31, 84, 88, 96, 222 | 01 | Oct. 01, 1998.
Appendix 2
| 1-56 | Original | Feb. 20, 1998
A300-28-6057, Revision 01, October 01, 1998 | 1-14 | 01 | Oct. 01, 1998.
Appendix 1
| 1-18, 21-25, 27-29, 31, 33, 34, 36, 38, 40, 42, 44-78, 81-85, 87-89, 91, 93, 94, 96, 98-100, 102, 104-229, 231-234 | Original | Feb. 20, 1998.
| 19, 20, 26, 30, 32, 35, 37, 39, 41, 43, 79, 80, 86, 90, 92, 95, 97, 101, 103, 230 | 01 | Oct. 01, 1998.
Appendix 2
| 1-54 | Original | Feb. 20, 1998.
| A300-28-0073, Revision 01, October 01, 1998 | 1-67 | 01 | Oct. 01, 1998.
| A310-28-2130, Revision 01, October 01, 1998 | 1-91 | 01 | Oct. 01, 1998.
A300-28-6058, Revision 01, October 01, 1998 | 1-67 | 01 | Oct. 01, 1998.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 98-174-248(B), dated April 22, 1998.

(g) This amendment becomes effective on July 18, 2000.

Issued in Renton, Washington, on June 2, 2000.
Donald L. Riggin,
Acting Manager, Transport Airplane Directorate, Aircraft Certification Service.

[FR Doc. 00-14437 Filed 6-12-00; 8:45 am]

BILLING CODE 4910-13-P